POSTAL SERVICE

39 CFR Part 20

International Service Changes—Burma, Kiribati, Sao Tome and Principe

AGENCY: Postal Service™.

ACTION: Final rule.

SUMMARY: The Postal Service is revising Mailing Standards of the United States Postal Service, International Mail Manual (IMM®), to reflect classification changes to Competitive Services, as established by the Governors of the Postal Service.

DATES: Effective date: April 26, 2015.

FOR FURTHER INFORMATION CONTACT: Paula Rabkin at 202-268-2537.

SUPPLEMENTARY INFORMATION: New classification changes are available under Docket Number CP2015-33 on the Postal Regulatory Commission's Web site at http://www.prc.gov.

This final rule describes the international classification changes and the corresponding mailing standards changes for the following Competitive Services:

Priority Mail Express International

Priority Mail Express International® service provides fast international delivery service to more than 180 countries. The following classification changes are made:

Burma (Myanmar), Kiribati, and Sao Tome and Principe

We are adding Burma (Myanmar), Kiribati, and Sao Tome and Principe as the most recent countries to establish an Express Mail Service (EMS) operational exchange agreement with the Postal Service. As a result, Priority Mail Express International service will become available to these destinations effective April 26, 2015, as described in the mailing standards below.

List of Subjects in 39 CFR Part 20

Foreign relations, International postal services.

The Postal Service hereby adopts the following changes to Mailing Standards of the United States Postal Service, International Mail Manual (IMM), which is incorporated by reference in the Code of Federal Regulations. See 39 CFR 20.1. Accordingly, 39 CFR part 20 is amended as follows:

PART 20—[AMENDED]

1. The authority citation for 39 CFR part 20 continues to read as follows:

Authority: 5 U.S.C. 552(a); 13 U.S.C. 301-307; 18 U.S.C. 1692-1737; 39 U.S.C. 101, 401, 403, 404, 407, 414, 416, 3001-3011, 3201-3219, 3403-3406, 3621, 3622, 3626, 3632, 3633, and 5001.

2. Revise the following sections of Mailing Standards of the United States Postal Service, International Mail Manual (IMM), as follows:

Mailing Standards of the United States Postal Service, International Mail Manual (IMM)

* * * * *

Country Price Groups and Weight Limits

[Revise the Listings for Burma (Myanmar), Kiribati, and Sao Tome and Principe Adding PMEI Service, To Read as Follows:]

Country | Global express guaranteed: Price group | Global express guaranteed: Max. wt. (lbs.) | Priority mail express international: Price group | Priority mail express international: Max. wt. (lbs.) | Priority mail international: Price group | Priority mail international: Max. wt. (lbs.) | First-class mail international and first-class package international service: Price group | First-class mail international and first-class package international service: Max. wt. (ozs./lbs.)
* * * * * * *
Burma (Myanmar) | n/a | n/a | 6 | 44 | 6 | 22 | 6 | 3.5/4
* * * * * * *
Kiribati | n/a | n/a | 6 | 66 | 6 | 44 | 6 | 3.5/4
* * * * * * *
Sao Tome and Principe | n/a | n/a | 7 | 66 | 7 | 44 | 7 | 3.5/4

* * * * *

Individual Country Listings

* * * * *

Burma (Myanmar)

Country Conditions for Mailing

* * * * *

[Revise the Listing for Priority Mail Express International To Read as Follows:]

Priority Mail Express International (220) Price Group 6

Refer to Notice 123, Price List, for the applicable retail, Commercial Base, or Commercial Plus price.
Weight Limit: 44 pounds

Priority Mail Express International—Flat Rate Envelopes and Flat Rate Boxes

Flat Rate Envelopes: The maximum weight is 4 pounds.

Flat Rate Boxes: The maximum weight is 20 pounds.

Refer to Notice 123, Price List, for the applicable retail, Commercial Base, or Commercial Plus price.

Size Limits (221.52)

Maximum length: 60 inches.

Maximum length and girth combined: 108 inches.

Insurance (222.8)

Available for Priority Mail Express International merchandise shipments only.

See Exhibit 322.2 for individual country merchandise insurance limits. See Notice 123, Price List, for the fee schedule for Priority Mail Express International merchandise insurance coverage.

Customs Forms Required (123)

Articles admitted | Required customs form/endorsement
Documents, correspondence, and business papers | PS Form 2976. Endorse item clearly next to mailing label as BUSINESS PAPERS.
Merchandise samples without commercial value | PS Form 2976.
Merchandise and all articles subject to customs duty | PS Form 2976-A inside PS Form 2976-E (envelope).

Note: For mailers completing PS Form 2976-B or an online combined shipping label and customs form that electronically transmits customs-related data, no additional customs form is required (see 222.5).

Note: Coins; banknotes; currency notes, including paper money; securities of any kind payable to bearer; traveler's checks; platinum, gold, and silver; precious stones; jewelry; watches; and other valuable articles are prohibited in Priority Mail Express International shipments to Burma (Myanmar).

Reciprocal Service Name: EMS Myanmar Post.

Country Code: MM.

Areas Served: Entire territory except those listed below:

Bago Township

Dagon ( South) Township

Dala Township

Hlaegu Township

Hlaing Thar Yar (Industrial Zone)

Kalay Township

Kyauktan Township

Mandalay Township

Mawlamyine Township

Mingalardon Township

Monywa Township

Myingyan Township

Pakokku Township

Pathein Township

Pearl Township

PyinooLwin Township

Shwepaukkan Industrial Zone

Shwepyithar Township

Thalyin Township

* * * * *

Kiribati

Country Conditions for Mailing

* * * * *

[Revise the Listing for Priority Mail Express International To Read as Follows:]

Priority Mail Express International (220) Price Group 6

Refer to Notice 123, Price List, for the applicable retail, Commercial Base, or Commercial Plus price.
Weight Limit: 66 pounds

Priority Mail Express International—Flat Rate Envelopes and Flat Rate Boxes

Flat Rate Envelopes: The maximum weight is 4 pounds.

Flat Rate Boxes: The maximum weight is 20 pounds.

Refer to Notice 123, Price List, for the applicable retail, Commercial Base, or Commercial Plus price.

Size Limits (221.52)

Maximum length: 60 inches.

Maximum length and girth combined: 108 inches.

Insurance (222.8)

Available for Priority Mail Express International merchandise shipments only.

See Exhibit 322.2 for individual country merchandise insurance limits. See Notice 123, Price List, for the fee schedule for Priority Mail Express International merchandise insurance coverage.

Customs Forms Required (123)

Articles admitted | Required customs form/endorsement
Documents, correspondence, and business papers | PS Form 2976. Endorse item clearly next to mailing label as BUSINESS PAPERS.
Merchandise samples without commercial value | PS Form 2976.
Merchandise and all articles subject to customs duty | PS Form 2976-A inside PS Form 2976-E (envelope).

Note: For mailers completing PS Form 2976-B or an online combined shipping label and customs form that electronically transmits customs-related data, no additional customs form is required (see 222.5).

Notes:

1. Proforma and Commercial Invoice required in addition to customs forms listed in 123.

2. Coins; banknotes; currency notes, including paper money; securities of any kind payable to bearer; traveler's checks; platinum, gold, and silver; precious stones; jewelry; watches; and other valuable articles are prohibited in Priority Mail Express International shipments to Kiribati.

Reciprocal Service Name: EMS Kiribati.

Country Code: KI.

Areas Served: All.

* * * * *

Sao Tome and Principe

Country Conditions for Mailing

* * * * *

[Revise the Listing for Priority Mail Express International To Read as Follows:]

Priority Mail Express International (220) Price Group 7

Refer to Notice 123, Price List, for the applicable retail, Commercial Base, or Commercial Plus price.
Weight Limit: 66 pounds

Priority Mail Express International — Flat Rate Envelopes and Flat Rate Boxes.

Flat Rate Envelopes: The maximum weight is 4 pounds.

Flat Rate Boxes: The maximum weight is 20 pounds.

Refer to Notice 123, Price List, for the applicable retail, Commercial Base, or Commercial Plus price.

Size Limits (221.52)

Maximum length: 60 inches.

Maximum length and girth combined: 108 inches.

Insurance (222.8)

Available for Priority Mail Express International merchandise shipments only.

See Exhibit 322.2 for individual country merchandise insurance limits. See Notice 123, Price List, for the fee schedule for Priority Mail Express International merchandise insurance coverage.

Customs Forms Required (123)

Articles admitted | Required customs form/endorsement
Documents, correspondence, and business papers | PS Form 2976. Endorse item clearly next to mailing label as BUSINESS PAPERS.
Merchandise samples without commercial value | PS Form 2976.
Merchandise and all articles subject to customs duty | PS Form 2976-A inside PS Form 2976-E (envelope).

Note: For mailers completing PS Form 2976-B or an online combined shipping label and customs form that electronically transmits customs-related data, no additional customs form is required (see 222.5).

Note: Coins; banknotes; currency notes, including paper money; securities of any kind payable to bearer; traveler's checks; platinum, gold, and silver; precious stones; jewelry; watches; and other valuable articles are prohibited in Priority Mail Express International shipments to Sao Tome and Principe.

Reciprocal Service Name: EMS Sao Tome and Principe.

Country Code: ST.

Areas Served: All.

* * * * *

We will publish an appropriate amendment to 39 CFR part 20 to reflect these changes.

Stanley F. Mires,
Attorney, Federal Requirements.

[FR Doc. 2015-02006 Filed 2-2-15; 8:45 am]

BILLING CODE 7710-P